DEPARTMENT OF TRANSPORTATION

Surface Transportation Board

[STB Ex Parte No. 552 (Sub-No. 8)]

Railroad Revenue Adequacy—2003 Determination

AGENCY: Surface Transportation Board.

ACTION: Notice of decision.

SUMMARY: On August 12, 2004, the Board served a decision announcing the 2003 revenue adequacy determinations for the Nation's Class I railroads. No carrier is found to be revenue adequate.

EFFECTIVE DATE: This decision is effective August 12, 2004.

FOR FURTHER INFORMATION CONTACT: Leonard J. Blistein, (202) 565-1529. (Federal Information Relay Service (FIRS) for the hearing impaired: 1 (800) 877-8339.)

SUPPLEMENTARY INFORMATION: The Board is required to make an annual determination of railroad revenue adequacy. A railroad is considered revenue adequate under 49 U.S.C. 10704(a) if it achieves a rate of return on net investment equal to at least the current cost of capital for the railroad industry for 2003, determined to be 9.4% in Railroad Cost of Capital—2003, STB Ex Parte No. 558 (Sub-No. 7) (STB served June 28, 2004). This revenue adequacy standard was applied to each Class I railroad, and no carrier was found to be revenue adequate for 2003.

The Board's decision is posted on the Board's Web site, http://www.stb.dot.gov. In addition, copies of the decision may be purchased from ASAP Document Solutions by calling 301-577-2600 or by e-mailing asapdoc@verizon.net.

Environmental and Energy Considerations

This action will not significantly affect either the quality of the human environment or the conservation of energy resources.

Regulatory Flexibility Analysis

Pursuant to 5 U.S.C. 603(b), we conclude that our action in this proceeding will not have a significant economic impact on a substantial number of small entities. The purpose and effect of the action is merely to update the annual railroad industry revenue adequacy finding. No new reporting or other regulatory requirements are imposed, directly or indirectly, on small entities.

Decided: August 11, 2004.
By the Board, Chairman Nober, Vice Chairman Mulvey, and Commissioner Buttrey.
Vernon A. Williams,
Secretary.

[FR Doc. 04-18776 Filed 8-16-04; 8:45 am]

BILLING CODE 4915-01-P